DEPARTMENT OF COMMERCE

National Oceanic and Atmospheric Administration

RIN 0648-XD932

South Atlantic Fishery Management Council (SAFMC); Public Meeting

AGENCY: National Marine Fisheries Service (NMFS), National Oceanic and Atmospheric Administration (NOAA), Commerce.

ACTION: Notice of public meetings.

SUMMARY: The South Atlantic Fishery Management Council (Council) will hold meetings of the: Habitat Protection and Ecosystem-Based Management Committee; Protected Resources Committee; Shrimp Committee; Southeast Data, Assessment and Review (SEDAR) Committee; Golden Crab Committee; Personnel Committee (Closed Session); Scientific and Statistical Committee (SSC) Selection Committee; Law Enforcement Committee (partially closed); Data Collection Committee; King and Spanish Mackerel Committee; Executive Finance Committee; Snapper Grouper Committee; and a meeting of the Full Council. The Council will also hold a Council Member Visioning Workshop for the Snapper Grouper Fishery and conduct a joint Council Session with the Gulf of Mexico Fishery Management Council. The Council will take action as necessary. The Council will also hold a formal public comment session.

DATES: The Council meeting will be held from 8:30 a.m. on Monday, June 8, 2015 until 3 p.m. on Friday, June 12, 2015.

ADDRESSES:

Meeting address: The meeting will be held at the Doubletree Grand Key Resort, 3990 S. Roosevelt Blvd., Key West, FL 33040; phone: (800) 222-8733 or (305) 293-1818; fax: (305) 296-6962.

Council address: South Atlantic Fishery Management Council, 4055 Faber Place Drive, Suite 201, N. Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The items of discussion in the individual meeting agendas are as follows:

Council Member Visioning Workshop: Monday, June 8, 2015, 8:30 a.m. Until 12 Noon

1. Council members will receive a recap of the March 2015 Visioning Workshop, an overview of the draft Snapper Grouper Vision Blueprint, review public input, promotional materials and strategies, and discuss planning for public input schedules on the Draft Vision Blueprint.

2. Council members will discuss next steps and provide guidance to staff.

Habitat Protection and Ecosystem-Based Management Committee: Monday, June 8, 2015, 1:30 p.m. Until 3 p.m.

1. The committee will receive a report from the Habitat Advisory Panel, a status report on the Fishery Ecosystem Plan II Development, a report on the South Atlantic Ecosystem Modeling Workshop, and review analyses associated with the northern extension of the Oculina Bank Coral Habitat Area of Particular Concern as it pertains to the rock shrimp fishery.

2. The committees will develop recommendations and provide guidance to staff.

Protected Resources Committee: Monday, June 8, 2015, 3 p.m. Until 4 p.m.

1. The committee will receive an update from NOAA Fisheries on protected resource-related issues, a briefing on the Acropora (coral) recovery plan, an overview of the Coastal Migratory Pelagics Fishery Biological Opinion, and an overview of the NOAA Fisheries guidance on the Endangered Species Act/Magnuson-Stevens Fishery Conservation Act Integration Agreement.

2. The committee will develop recommendations for the Council.

Shrimp Committee: Monday, June 8, 2015, 4:00 p.m. Until 4:30 p.m.

1. The committee will review the Shrimp and Deepwater Shrimp Advisory Panel report, discuss, and provide guidance to staff.

SEDAR Committee: Monday, June 8, 2015, 4:30 p.m. Until 5 p.m.

1. The committee will approve Terms of Reference for red grouper, approve the Council's Annual Research and Monitoring Plan, and receive an update on the Marine Recreational Information Transition Plan.

Golden Crab Committee: Monday, June 8, 2015, 5 p.m. Until 5:30 p.m.

1. The committee will receive an update on the status of commercial catch versus annual catch limit (ACL) for golden crab, the status of Amendment 9 to the Golden Crab Fishery Management Plan (FMP), and a report on available data for golden crab. The committee will discuss and take action as necessary.

Personnel Committee: Tuesday, June 9, 2015, 8 a.m. Until 9 a.m. (Closed Session)

1. The committee will review a staff retirement health insurance proposal and provide recommendations.

SSC Selection Committee: Tuesday, June 9, 2015, 9 a.m. Until 9:30 a.m. (Closed Session)

1. The committee will review applications for the SSC and provide recommendations for appointments.

Law Enforcement Committee: Tuesday, June 9, 2015, 9:30 a.m. Until 10:30 a.m. (Partially Closed Session)

1. The committee will review nominations for Law Enforcement Officer of the Year (closed session) and receive a report from the Law Enforcement Advisory Panel.

2. The committee will provide recommendations as appropriate.

Data Collection Committee: Tuesday, June 9, 2015, 10:30 a.m. Until 11 a.m.

1. The committee will receive a presentation on the status of work on bycatch reporting in the Southeast, an overview of the status of the implementation plan for commercial electronic logbook reporting, a presentation on the status of the commercial electronic logbook pilot project, an overview of the Joint South Atlantic and Gulf Council Generic Charterboat Reporting Amendment including the status of the Gulf Council recommendations and next steps, and review the Decision Document for the amendment.

2. The committee will discuss, approve next steps, and provide guidance to staff.

King and Spanish Mackerel Committee: Tuesday, June 9, 2015, 11 a.m. Until 12 Noon

1. The committee will receive a report on the status of commercial catch versus ACLs for king mackerel, Spanish mackerel and cobia, the status of amendments currently under Secretarial Review, discuss Framework Amendment 2 to the Coastal Migratory Pelagic FMP, and receive a report from the Mackerel Advisory Panel.

2. The committee will review Coastal Migratory Pelagic FMP Amendment 26 addressing modifications to management/stock boundaries, management parameters for king mackerel including changes to ACLs, revisions to commercial quotas and allocations in the Gulf of Mexico, and allowing the sale of king mackerel caught within the shark gillnet fishery. The committee will modify the amendment as necessary, and select preferred management alternatives.

3. The committee will review the Discussion Document for Coastal Migratory Pelagic FMP Amendment 28 addressing options for separating the joint FMP between the Gulf of Mexico and South Atlantic Fishery Management Councils.

4. The committee will provide recommendations and direction to staff as appropriate.

Executive Finance Committee: Tuesday, June 9, 2015, 1:30 p.m. Until 3 p.m.

1. The committee will receive an update on the status of the Calendar Year 2015 budget expenditures and review the Council Follow-up and priorities.

2. The committee will review and approve the Calendar Year 2015 budget.

3. The committee will also receive an update on the Joint South Florida Committee Issues and an overview of the Citizen Science Program and review the Statement of Work.

4. The committee will provide recommendations and address other issues as appropriate.

Snapper Grouper Committee: Tuesday, June 9, 2015, 3 p.m. Until 5:30 p.m. and Wednesday, June 10, 2015, 8:30 a.m. Until 5 p.m.

1. The committee will receive updates on the status of catches versus quotas under annual catch limits (ACLs), actions under formal review, Southeast Reef Fish Survey, and presentations on the 2015 red snapper season and Marine Recreational Information Program (MRIP) “Rare Event” sampling.

2. The committee will receive reports from the Snapper Grouper Advisory Panel (AP) and the SSC.

3. The committee will review the following amendments to the Snapper Grouper FMP and provide recommendations as appropriate: (1) Regulatory Amendment 16 addressing modifications to the current seasonal closure for the commercial black sea bass pot fishery. The committee will modify the amendment, choose preferred alternatives as appropriate and approve the amendment for public hearings; (2) Amendment 36 addressing Spawning Special Management Zones (SMZs.). The committee will consider public hearing comments and the draft System Management Plan, modify the document as appropriate, and approve the amendment for a second round of public hearings; (3) Amendment 35 to remove species from the management unit and address measures for the commercial golden tilefish endorsement. The committee will modify the document and codified text as needed and approve for formal review;

4. The committee will review the following amendments, provide guidance to staff and develop recommendations for approving for public scoping: (1) Amendment 38 pertaining to blueline tilefish management measures; (2) Amendment 37 addressing measures for hogfish; (3) Regulatory Amendment 23 addressing measures for golden tilefish; and (4) Regulatory Amendment 24 addressing measures for multiple species in the snapper grouper management complex.

Note: A formal public comment session will be held on Wednesday, June 10, 2015 beginning at 5:30 p.m. Public comment will be accepted on any items on the Council agenda including items on the joint Council session. The Chairman, based on the number of individuals wishing to comment, will determine the amount of time provided to each commenter.

Joint Council Session: South Atlantic and Gulf of Mexico Fishery Management Councils, Thursday, June 11, 2015, 8:30 a.m. Until 5:30 p.m.

8:30 a.m.-8:45 a.m.: Call the meeting to order, adopt the agenda, welcome and introductions

8:45-10 a.m.: The Councils will receive an overview of the Decision Document for the Joint South Atlantic and Gulf of Mexico Generic Charterboat Reporting Amendment addressing reporting requirements for federally permitted charterboats in the South Atlantic and Gulf of Mexico. The Councils will discuss measures and vote on actions as appropriate.

10 a.m.-12 noon: The Councils will review the Joint Draft Options Paper and Decision Document for Amendment 26 to the Coastal Migratory Pelagics FMP addressing king mackerel management measures including modifications to stock boundaries, allocations, and sale provisions. The Councils will discuss measures and vote on actions as appropriate.

1:30 p.m.-2:30 p.m.: The Councils will review the Decision Document for Amendment 28 to the Coastal Migratory Pelagic FMP addressing options for separating management of coastal migratory species (king mackerel, Spanish mackerel and cobia) between the Gulf of Mexico and South Atlantic Council's area of jurisdiction. The species are currently managed jointly through the FMP. The Councils will discuss measures and vote on actions as appropriate.

2:30 p.m.-5 p.m.: The Councils will review the Joint South Florida Amendment including issues, goals and objectives. The amendment includes measures to modify management of yellowtail snapper, mutton snapper and black grouper, seasonal closures, circle hook requirements and other measures designed to minimize conflicting regulations for South Florida. The Councils will review the Decision Document for the amendment and vote on actions as appropriate.

5 p.m.-5:30 p.m.: The Councils will review a Decision Document for management measures addressing hogfish following a recent stock assessment. The Councils will discuss measures and vote on actions as appropriate. The Councils will also address Other Business as appropriate.

Council Session: Friday, June 12, 2015, 8:30 a.m. Until 3 p.m.

8:30 a.m.-8:45 a.m.: Call the meeting to order, adopt the agenda, and approve the March 2014 minutes.

8:45 a.m.-9:45 a.m.: The Council will receive a report from the Snapper Grouper Committee and is scheduled to approve Snapper Grouper Amendment 35 for formal Secretarial review. The Council will approve/disapprove Regulatory Amendment 16 for public hearings and Amendment 36 for a second round of public hearings. The Council is scheduled to approve or disapprove the following amendments for public scoping: Snapper Grouper Amendment 37, Amendment 38, Regulatory Amendment 23 and Regulatory Amendment 24. The Council will consider other committee recommendations and take action as appropriate.

9:45 a.m.-10 a.m.: The Council will receive a report from the King and Spanish Mackerel Committee, consider committee recommendations and take action as appropriate.

10 a.m.-10:15 a.m.: The Council will receive a report from the SSC Selection Committee, appoint members to the SSC and the SSC's Socio-Economic Panel, consider other committee recommendations and take action as appropriate.

10:15 a.m.-10:30 a.m.: The Council will receive a report from the Council Member Visioning Workshop, consider recommendations and take action as appropriate.

10:30 a.m.-10:45 a.m.: The Council will receive a report from the Habitat Protection and Ecosystem-Based Management Committee, consider committee recommendations and take action as appropriate.

10:45 a.m.-11 a.m.: The Council will receive a report from the Protected Resources Committee, consider committee recommendations and take action as appropriate.

11 a.m.-11:15 a.m.: The Council will receive a report from the SEDAR Committee, approve or disapprove the red grouper terms of reference, the Council's annual Research and Monitoring Plan, consider committee recommendations and take action as appropriate.

11:15 a.m.-11:30 a.m.: The Council will receive a report from the Executive Finance Committee, approve the Council Follow Up and Priorities, approve the Calendar Year 2015 budget, take action on the South Florida Management issues as appropriate, consider other committee recommendations and take action as appropriate.

11:30 a.m.-11:45 a.m.: The Council will receive a report from the Golden Crab Committee, consider committee recommendations, and take action as appropriate.

11:45 a.m.-12 noon: The Council will receive a report from the Data Collection Committee, consider recommendations and take action as appropriate.

1 p.m.-1:15 p.m.: The Council will receive a report from the Shrimp Committee, consider committee recommendations and take action as appropriate.

1:15 p.m.-1:30 p.m.: The Council will receive a report from the Law Enforcement Committee, select the Law Enforcement Officer of the Year, consider other committee recommendations, and take action as appropriate.

1:30 p.m.-1:45 p.m.: The Council will receive a report from the Personnel Committee, approve/disapprove the staff retirement health insurance plan, consider other committee recommendations, and take action as appropriate.

1:45 p.m.-3 p.m.: The Council will receive status reports from NOAA Fisheries Southeast Regional Office and the Southeast Fisheries Science Center. The Council will review and develop recommendations on Experimental Fishing Permits as necessary; review agency and liaison reports; and discuss other business and upcoming meetings.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: May 19, 2015.
Tracey L. Thompson,
Acting Deputy Director, Office of Sustainable Fisheries, National Marine Fisheries Service.

[FR Doc. 2015-12492 Filed 5-21-15; 8:45 am]

BILLING CODE 3510-22-P